DEPARTMENT OF DEFENSE

Office of the Secretary

32 CFR Part 80

[Docket ID: DOD-2017-OS-0047]

RIN 0790-AJ92

Provision of Early Intervention Services to Eligible Infants and Toddlers With Disabilities and Their Families, and Special Education Children With Disabilities Within the Section 6 School Arrangements

AGENCY: Under Secretary of Defense for Personnel and Readiness, DoD.

ACTION: Final rule.

SUMMARY: This final rule removes the Department of Defense (DoD) regulation concerning the provision of early intervention services to eligible infants and toddlers with disabilities and their families, and special education children with disabilities within the Section 6 school arrangements. The contents of this part have been updated and incorporated into the revision of DoD's regulation at 32 CFR part 57, “Provision of Early Intervention and Special Education Services to Eligible DoD Dependents.” Therefore, this part is unnecessary and can be removed from the CFR.

DATES: This rule is effective on August 1, 2018.

FOR FURTHER INFORMATION CONTACT: Rebecca Lombardi, 571-372-0862.

SUPPLEMENTARY INFORMATION: It has been determined that publication of this CFR part removal for public comment is impracticable, unnecessary, and contrary to public interest since its content was incorporated into another CFR part for which public comment was taken.

DoD internal guidance concerning the provision of early intervention services to eligible infants and toddlers with disabilities and their families, and special education children with disabilities within the Section 6 school arrangements will continue to be published in DoD Instruction 1342.12 (available at http://www.esd.whs.mil/Portals/54/Documents/DD/issuances/dodi/134212p.pdf) and DoD Manual 1342.12 (available at http://www.esd.whs.mil/Portals/54/Documents/DD/issuances/dodm/134212m.pdf). This rule is not significant under Executive Order (E.O.) 12866, “Regulatory Planning and Review,” therefore, E.O. 13771, “Reducing Regulation and Controlling Regulatory Costs” does not apply.

List of Subjects in 32 CFR Part 80

Education of individuals with disabilities, Government employees, Infants and children, Military personnel.

PART 80—[REMOVED]

Accordingly, by the authority of 5 U.S.C. 301, 32 CFR part 80 is removed.

Dated: July 25, 2018.
Aaron T. Siegel,
Alternate OSD Federal Register Liaison Officer, Department of Defense.

[FR Doc. 2018-16394 Filed 7-31-18; 8:45 am]

BILLING CODE 5001-06-P